DEPARTMENT OF TRANSPORTATION

Federal Aviation Administration

Advisory Circular 33.4-3, Instructions for Continued Airworthiness; Aircraft Engine High Intensity Radiated Fields (HIRF) and Lightning Protection Features

AGENCY: Federal Aviation Administration (FAA), DOT.

ACTION: Notice of issuance of advisory circular.

SUMMARY: This notice announces the issuance of Advisory Circular (AC) 33.4-3, Instructions for Continued Airworthiness; Aircraft Engine High Intensity Radiated Fields (HIRF) and Lightning Protection Features. This AC sets forth acceptable methods of compliance for aircraft engines with the provisions of § 33.4, Instructions for Continued Airworthiness of Title 14 of the Code of Federal Regulations (14 CFR). This AC provides guidance for developing instructions for continued airworthiness to ensure the continued airworthiness of aircraft engine HIRF and Lightning protection features.

DATES: The Engine and Propeller Directorate issued Advisory Circular 33.4-3 on September 16, 2005.

FOR FURTHER INFORMATION CONTACT: The Federal Aviation Administration, Attn: Gary Horan, Engine and Propeller Standards Staff, ANE-111, 12 New England Executive Park, Burlington, MA 01803-5299; telephone: (781) 238-7164; fax: (781) 238-7199; e-mail: gary.horan@faa.gov.

We have filed in the docket all substantive comments received, and a report summarizing them. If you wish to review the docket in person, you may go to the above address between 9 a.m. and 5 p.m., Monday through Friday, except Federal holidays. If you wish to contact the above individual directly, you can use the above telephone number ore-mail address provided.

How to Obtain Copies: A paper copy of AC 33.4-3 may be obtained by writing to the U.S. Department of Transportation, Subsequent Distribution Office, DOT Warehouse, SVC-121.23, Ardmore East Business Center, 3341 Q 75th Ave., Landover, MD 20785, telephone 301-322-5377, or by faxing your request to the warehouse at 301-386-5394. The AC will also be available on the Internet at http://www.faa.gov/, select “Regulations and Policies” then the link titled “Advisory Circulars.”

(Authority: 49 U.S.C. 106(g), 40113, 44701-44702, 44704)
Issued in Burlington, Massachusetts, on September 16, 2005.
Fran A. Favara,
Acting Manager, Engine and Propeller Directorate, Aircraft Certification Service.

[FR Doc. 05-19598 Filed 9-30-05; 8:45 am]

BILLING CODE 4910-13-M